DEPARTMENT OF COMMERCE

International Trade Administration

[C-423-809]

Stainless Steel Plate in Coils from Belgium: Extension of Time Limits for Preliminary and Final Results of Full Five-year (“Sunset”) Review of Countervailing Duty Order

AGENCY: Import Administration, International Trade Administration, Department of Commerce.

EFFECTIVE DATE: September 24, 2010.

FOR FURTHER INFORMATION CONTACT: Alexander Montoro, AD/CVD Operations, Office 1, Import Administration, International Trade Administration, U.S. Department of Commerce, 14th Street and Constitution Avenue, N.W., Washington, DC 20230; telephone: (202) 482-0238.

SUPPLEMENTARY INFORMATION:

Background

On June 2, 2010, the Department of Commerce (“Department”) initiated the second sunset review of the countervailing duty order on stainless steel plate in coils from Belgium in accordance with section 751(c) of the Tariff Act of 1930, as amended (“Act”). See Initiation of Five-year (“Sunset”) Review, 75 FR 30777 (June 2, 2010). Within the deadline specified in 19 CFR 351.218(d)(1)(i), the Department received notices of intent to participate on behalf of Allegheny Ludlum Corporation and the United Steel, Paper and Forestry, Rubber, Manufacturing, Energy, Allied Industrial and Service Workers International Union, who were the petitioners in the original investigation. Those parties claimed interested party status under section 771(9)(C) and (D) of the Act, as manufacturers of a domestic like product and as a certified union representing workers in the domestic industry producing certain stainless steel plate in coils. The Department received substantive responses from the petitioners within the deadline specified in 19 CFR 351.218(d)(3)(i). The Department also received substantive responses in a timely manner from the following respondent interested parties: the Government of Belgium and ArcelorMittal Stainless Belgium N.V. Domestic and respondent interested parties also submitted timely rebuttal comments.

On July 22, 2010, after analyzing the submission and rebuttals from interested parties and finding the substantive responses adequate, the Department determined to conduct a full sunset review. See Memorandum from Yasmin Nair, International Trade Compliance Analyst, to Susan H. Kuhbach, Director, AD/CVD Operations, Office 1, entitled “Adequacy Determination in Countervailing Duty Sunset Review of Certain Stainless Steel Plate in Coils from Belgium,” dated July 22, 2010.

Extension of Time Limits for Preliminary and Final Results of Reviews

The Act provides for the completion of a full sunset review within 240 days of the publication of the initiation notice. See section 751(c)(5)(A) of the Act. In accordance with section 751(c)(5)(B) of the Act, the Department may extend the period of time for making its determination by not more than 90 days, if it determines that the review is extraordinarily complicated.

We determine that this review is extraordinarily complicated, pursuant to sections 751(c)(5)(C)(i) and (ii) of the Act, because there are a large number of programs under consideration for which the Department must analyze numerous complex issues. Therefore, the Department requires additional time to complete its analysis. Accordingly, the Department is extending the deadline in this proceeding by 90 days in accordance with section 751(c)(5)(B) of the Act . As a result, the Department intends to issue the final results of this full sunset review by April 28, 2011.

With respect to the preliminary results of this full sunset review, the Department's regulations, at 19 CFR 351.218(f)(3), provide that the Department normally will issue its preliminary results in a full sunset review not later than 110 days after the initiation. However, because of the reasons cited above, we require additional time to conduct the analysis required for the preliminary results. Therefore, we are extending the deadline for the preliminary results of this full sunset review by 90 days and intend to issue those preliminary results by December 19, 2010. However, December 19, 2010, falls on a Sunday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary results of this full sunset review is now no later than December 20, 2010.

This notice is issued in accordance with sections 751(c)(5)(B) and (C) of the Act.

Dated: September 20, 2010.
Susan H. Kuhbach,
Acting Deputy Assistant Secretary for Antidumping and Countervailing Duty Operations.

[FR Doc. 2010-24019 Filed 9-23-10; 8:45 am]

BILLING CODE 3510-DS-S